DEPARTMENT OF TRANSPORTATION

National Highway Traffic Safety Administration

[NHTSA-2006-23772]

Incentive Grant Program To Prohibit Racial Profiling

AGENCY: National Highway Traffic Safety Administration, DOT.

ACTION: Announcement of an incentive grant program to encourage States to enact and enforce laws that prohibit the use of racial profiling in the enforcement of traffic laws on Federal-aid highways, and to maintain and allow public inspection of statistics on motor vehicle stops.

SUMMARY: The National Highway Traffic Safety Administration (NHTSA) announces a new incentive grant program concerning racial profiling under section 1906 of the Safe, Accountable, Flexible, Efficient Transportation Equity Act: A Legacy For Users (SAFETEA-LU). This Notice informs the 50 states, the District of Columbia, Puerto Rico, the Virgin Islands, Guam, American Samoa, and the Commonwealth of the Northern Mariana Islands, through their Governors' Representatives for Highway Safety, of the application procedures for grants available in fiscal years 2006 through 2009.

DATES: Applications must be received by the appropriate NHTSA Regional Office on or before July 1 of the fiscal year for which a State seeks a grant.

ADDRESSES: Applications must be submitted to the appropriate Regional Administrator.

FOR FURTHER INFORMATION CONTACT: For program issues, Keith Williams, Office of Traffic Injury Control, Enforcement & Justice Services Division (NTI-122), NHTSA, 400 Seventh Street, SW., Room 5130, Washington, DC, 20590, by phone at (202) 366-0543 or by e-mail at keith.williams@nhtsa.dot.gov. For legal issues, Dana Sade, Office of Chief Counsel, NCC-113, NHTSA, 400 Seventh Street, SW., Room 5219, Washington, DC 20590, by phone at (202) 366-1834 or by e-mail at dana.sade@nhtsa.dot.gov.

SUPPLEMENTARY INFORMATION:

Background

Section 1906 of the Safe, Accountable, Flexible, Efficient Transportation Equity Act: A Legacy For Users (SAFETEA-LU) establishes an incentive grant program to prohibit racial profiling (“the Section 1906 Program”). The purpose of the grant program is to encourage States to enact and enforce laws that prohibit the use of racial profiling in traffic law enforcement and to maintain and allow public inspection of statistical information regarding the race and ethnicity of the driver and any passengers for each motor vehicle stop in the State. Section 1906 authorizes $7.5 million in funding each year from FY 2006 through FY 2009.¹ The Section 1906 Grant Program is set forth in an uncodified footnote to 23 U.S.C. 402.

¹ Congress actually authorized the section 1906 grant program for 5 years from FY 2005 through FY 2009. However, grant funds authorized under the section 1906 Program did not become available to DOT until too late into in FY 2005 to make awards during that fiscal year. The $7.5 million authorized for FY 2005 grants remains available and will be added to the amount available for grant awards in FY 2006, the first year in which grants will be awarded under this program.

Today's Notice solicits applications for grants under this program. States qualifying for a grant will receive an amount determined by multiplying the amount available for awards under the section 1906 Program in a fiscal year by the ratio that the funds apportioned to the State under section 402 for that fiscal year bears to the funds apportioned to all eligible States under section 402 for that fiscal year, up to a maximum award of 5 percent of the amount made available to carry out section 1906 in that fiscal year. SAFETEA-LU provides that a State may not receive a grant for more than 2 fiscal years if it is qualifying for the grant only by providing assurances to the Secretary that it is undertaking activities to comply, rather than by enacting a complying law.

Definitions

As provided in section 1906—

Racial Profiling means use by a State or local law enforcement officer of the race or ethnicity of a driver or passenger to any degree in making routine or spontaneous law enforcement decisions, such as ordinary traffic stops on Federal-aid highways.² As limited by section 1906, this term does not include the manner in which a State or local law enforcement officer considers race or ethnicity when trustworthy, relevant, location-specific and timely information links persons of a particular race or ethnicity to an identified criminal incident, scheme or organization.

² Use of the term “Federal-aid highway” is governed by Chapter 1 of Title 23, which defines it as a highway eligible for assistance under Chapter 1 other than a highway classified as a local road or rural minor collector (i.e., all public roads except local and minor rural roads).

Statistical Information on Traffic Stops and Traffic Stop Data mean information on the race and ethnicity of the driver and any passengers for each motor vehicle stop made by a State or local law enforcement officer on a Federal-aid highway.

Requirements To Receive a Grant

SAFETEA-LU provides that a State may qualify for a grant under the Section 1906 Program in one of two ways: (a) By enacting and enforcing a law that prohibits the use of racial profiling in the enforcement of State laws regulating the use of Federal-aid highways and maintaining and allowing public inspection of statistical information on the race and ethnicity of the driver and any passengers for each such motor vehicle stop made by a law enforcement officer on a Federal-aid highway (a “Law State”); or (b) by providing satisfactory assurances to the Secretary that the State is undertaking activities to prohibit racial profiling and to maintain and provide public access to data on the race and ethnicity of the driver and passengers for each motor vehicle stop made by a law enforcement officer on a Federal-aid highway (an “Assurances State”). A State may not receive a grant for more than two fiscal years if it is qualifying for the grant as an Assurances State.

Eligibility

The 50 states, the District of Columbia, Puerto Rico, the Virgin Islands, Guam, American Samoa, and the Commonwealth of the Northern Mariana Islands are eligible to apply for grants under the section 1906 grant program.

Application Procedures

To apply for grant funds in a fiscal year, a Law State must submit the certification required by Appendix 1 and an Assurances State must submit the certification required by Appendix 2, signed by the Governor's Representative for Highway Safety, to the appropriate NHTSA Regional Administrator no later than July 1 of the fiscal year.

Award Notification

NHTSA will review the information referenced in each State's Certification for compliance with section 1906 and notify qualifying States in writing of grant awards.

Eligible Uses of Grant Funds

As prescribed by SAFETEA-LU—

Law States may use section 1906 grant funds for:

○ Collecting and maintaining data on traffic stops;

○ Evaluating the results of such data; and

○ Developing and implementing programs to reduce the occurrence of racial profiling, including programs to train law enforcement officers.

Assurances States may use section 1906 grant funds for:

○ Funding activities to prohibit racial profiling in the enforcement of State laws regulating the use of Federal-aid highways;

○ Collecting, maintaining and providing public access to traffic stop data;

○ Evaluating the results of such data; and

○ Developing and implementing programs to reduce the occurrence of racial profiling, including programs to train law enforcement officers.

Financial Accounting and Administration

Within 30 days after notification of award, but in no event later than September 12, a State must submit electronically to the agency a program cost summary (HS Form 217) obligating the funds to the Section 1906 Program. Submission of the program cost summary is necessary to ensure proper accounting for federal funds and is a precondition to receiving grant funds. The Federal share of programs funded under this section shall not exceed 80 percent.

Reporting Requirements

Each fiscal year until all section 1906 grant funds are expended, States should carefully document how they intend to use the funds in the Highway Safety Plan they submit pursuant to 23 U.S.C. 402 (or in an amendment to that plan) and detail the program activities accomplished in the Annual Report they submit pursuant to 23 CFR 1200.33.

Appendix 1: Racial Profiling Incentive Grant

Law State Certification

State (or Commonwealth):

Fiscal Year:

I hereby certify that:

(1) the State's law prohibiting racial profiling, available at

(include legal citations to all relevant provisions)

is (check one):

☐in effect and being enforced,

☐will be in effect on ___ (date) and will be enforced on ___ (date);

(2) that the State maintains and allows public inspection of statistical information on the race and ethnicity of the driver and any passengers for each motor vehicle stop made by a law enforcement officer on a Federal-aid highway, pursuant to the following official document(s) (e.g., State law, Executive Order, or policy) available at

(include legal or other citations to all relevant provisions)

and

(3) that, if awarded Section 1906 grant funds, the State:

• Will use the funds in accordance with the requirements of Section 1906 of SAFETEA-LU, Pub. L. 109-59; and

• Will administer the funds in accordance with 49 CFR Part 18.

Governor's Highway Safety Representative

Date

Appendix 2: Racial Profiling Incentive Grant

Assurances State Certification

State (or Commonwealth):

Fiscal Year:

I certify that:

(1) the State is undertaking activities to prohibit the use of racial profiling in the enforcement of State laws regulating the use of all Federal-aid highways, as described in the following official document(s) (e.g., State law, Executive Order, policy) available at

(include legal and other citations to all relevant provisions)

(2) the State is undertaking activities to maintain and allow public inspection of statistical information on the race and ethnicity of the driver and any passengers for each motor vehicle stop made by a State or local law enforcement officer on a Federal-aid highway, as described in the following official document(s) (e.g., State law, Executive Order, policy) available at

(include legal and other citations to all relevant provisions)

and

(3) that, if awarded Section 1906 grant funds, the State:

• will use the funds in accordance with the requirements of Section 1906 of SAFETEA-LU, Pub. L. 109-59; and

• will administer the funds in accordance with 49 CFR Part 18.

Governor's Highway Safety Representative

Date

Issued on: January 30, 2006.
Jacqueline Glassman,
Deputy Administrator.

[FR Doc. E6-1427 Filed 2-1-06; 8:45 am]

BILLING CODE 4910-59-P